FEDERAL COMMUNICATIONS COMMISSION

47 CFR Part 73

[DA 01-272]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective February 16, 2001.

FOR FURTHER INFORMATION CONTACT: Kathleen Scheuerle, Mass Media Bureau, (202) 418-2180.

SUPPLEMENTARY INFORMATION: This is a summary of the Commission's Report and Order, adopted January 24, 2001, and released February 2, 2001. The full text of this Commission decision is available for inspection and copying during normal business hours in the Commission's Reference Center, 445 12th Street, SW., Washington, DC. The complete text of this decision may also be purchased from the Commission's copy contractors, International Transcription Service, Inc., 1231 20th Street, NW., Washington, DC 20036, (202) 857-3800, facsimile (202) 857-3805.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under North Carolina, is amended by removing Long Beach and Channel 252C3 and adding Oak Island and Channel 252C3.¹

¹ The FM Table of Allotments is being corrected to show the allotment of Channel 252C3 at Oak Island, North Carolina, in lieu of Long Beach, North Carolina. The Town of Oak Island was formed in 1999 when the towns of Long Beach and Yaupon Beach consolidated.

3. Section 73.202(b), the Table of FM Allotments under Oklahoma, is amended by removing Channel 279C1 and adding Channel 278C1 at Anadarko.

Federal Communications Commission.
John A. Karousos,
Chief, Allocations Branch, Policy and Rules Division, Mass Media Bureau.

[FR Doc. 01-3960 Filed 2-15-01; 8:45 am]

BILLING CODE 6712-01-P